DEPARTMENT OF ENERGY

Office of Science; Biological and Environmental Research Advisory Committee

AGENCY: Department of Energy.

ACTION: Notice of open meeting.

SUMMARY: This notice announces a meeting of the Biological and Environmental Research Advisory Committee. Federal Advisory Committee Act (Pub. L. 92-463, 86 Stat. 770) requires that public notice of these meetings be announced in the Federal Register.

DATES: Monday, May 14, 2007, 9 a.m. to 5:30 p.m; and Tuesday, May 15, 2007, 9 a.m. to 12:30 p.m.

ADDRESSES: Bethesda North Marriott Hotel & Conference Center, 5701 Marinelli Road, North Bethesda, MD 20852.

FOR FURTHER INFORMATION CONTACT: Dr. David Thomassen (301-903-3251; david.thomassen@science.doe.gov) Designated Federal Officer, Biological and Environmental Research Advisory Committee, U.S. Department of Energy, Office of Science, Office of Biological and Environmental Research, SC-23/Germantown Building, 1000 Independence Avenue, SW., Washington, DC 20585-1290. The most current information concerning this meeting can be found on the Web site: http://www.science.doe.gov/ober/berac/announce.html.

SUPPLEMENTARY INFORMATION: Purpose of the Meeting: To provide advice on a continuing basis to the Director, Office of Science of the Department of Energy, on the many complex scientific and technical issues that arise in the development and implementation of the Biological and Environmental Research Program.

Tentative Agenda:

Monday, May 14, 2007, and Tuesday, May 15, 2007:

• Report on BERAC Integrated Assessment Charge.

• Report on BERAC ARM Facilities Charge.

• Report on DOE Energy Efficiency and Renewable Energy Biomass Program.

• Science talk, Paul Vaska, Brookhaven National Laboratory.

• Report by the Acting Associate Director of Science for Biological and Environmental Research.

• Presentation on Genomic Encyclopedia of Bacteria and Archaea.

• Report on Climate Change Research Division BERAC Committee of Visitors Review.

• Interim Report on Status of Joint Advanced Scientific Computing Advisory Committee (ASCR)—BERAC on ASCR PART (Performance Assessment Rating Tool) Metric for GTL.

• Science talk, John Zachara, Pacific Northwest National Laboratory.

• Overview of BP Energy Biosciences Institute at the University of California/Berkeley.

• Reports from BER Divisions.

• BER funding strategy for the National Laboratories.

• New business.

• Public comment (10 minute rule).

Public Participation: The day and a half meeting is open to the public. If you would like to file a written statement with the Committee, you may do so either before or after the meeting. If you would like to make oral statements regarding any of the items on the agenda, you should contact David Thomassen at the address or telephone number listed above. You must make your request for an oral statement at least five business days before the meeting. Reasonable provision will be made to include the scheduled oral statements on the agenda. The Chairperson of the Committee will conduct the meeting to facilitate the orderly conduct of business. Public comment will follow the 10-minute rule.

Minutes: The minutes of this meeting will be available for public review and copying within 30 days at the Freedom of Information Public Reading Room, IE-190, Forrestal Building, 1000 Independence Avenue, SW., Washington, DC, between 9 a.m. and 4 p.m., Monday through Friday, except Federal holidays.

Issued in Washington, DC, on April 24, 2007.
Rachel M. Samuel,
Deputy Advisory Committee, Management Officer.

[FR Doc. E7-8078 Filed 4-26-07; 8:45 am]

BILLING CODE 6450-01-P